DEPARTMENT OF ENERGY

Proposed Agency Information Collection

AGENCY: Office of Legacy Management, U.S. Department of Energy.

ACTION: Notice and request for comments.

SUMMARY: The Department of Energy (DOE) has submitted an information collection request to the OMB for a new collection under the provisions of the Paperwork Reduction Act of 1995. The information collection would create an evergreen webform for meeting room requests from stakeholders for the Office of Legacy Management (LM) Interpretive Centers.

DATES: Comments regarding this proposed information collection must be received on or before December 17, 2020. If you anticipate difficulty in submitting comments within that period, please advise the OMB Desk Officer of your intention to make a submission as soon as possible. The Desk Officer may be telephoned at (202) 395-4718.

ADDRESSES: Written comments may be sent to the DOE Desk Officer, Office of Information and Regulatory Affairs, Office of Management and Budget, New Executive Office Building, Room 10102, 735 17th Street NW, Washington, DC 20503; and to: Elizabeth Tran, U.S. Department of Energy, Office of Legacy Management, 11035 Dover Street, Suite 600, Westminster, CO 80021, or by email at elizabeth.tran@lm.doe.gov.

FOR FURTHER INFORMATION CONTACT: Requests for additional information or copies of the information collection instrument and instructions should be directed to U.S. Department of Energy Office of Legacy Management, c/o Elizabeth Tran, 11035 Dover Street, Suite 600, Westminster, CO 80021, (720) 377-9674, or by email at elizabeth.tran@lm.doe.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: New; (2) Information Collection Request Title: Office of Legacy Management Interpretive Centers' Meeting Room Webforms; (3) Type of Request: New; (4) Purpose: To create an evergreen webform for meeting room requests from stakeholders for the Office of Legacy Management (LM) Interpretive Centers; (5) Annual Estimated Number of Respondents: 234; (6) Annual Estimated Number of Total Responses: 234; (7) Annual Estimated Number of Burden Hours: 234; (8) Annual Estimated Reporting and Recordkeeping Cost Burden: $14,941.16.

Statutory Authority

Division A, Title III, and 132 STAT. 2913 of Public Law 115-244: Energy and Water, Legislative Branch, and Military Construction and Veterans Affairs Appropriations Act, 2019.

• Act Enacted FY 2019 appropriations for DOE Office of Legacy Management's mission of Long-Term Stewardship which includes outreach activities required to operate the interpretative centers.

Division C, Title III, and 133 STAT. 2675 of Public Law 116-94: Further Consolidated Appropriations Act, 2020.

• Act Enacted FY 2020 appropriations for DOE Office of Legacy Management's mission of Long-Term Stewardship which includes outreach activities required to operate the interpretative centers.

Signing Authority

This document of the Department of Energy was signed on November 12, 2020, by Carmelo Melendez, Director, Office of Legacy Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 13, 2020.
Treena V. Garrett,
Federal Register Liaison Officer, U.S. Department of Energy.

[FR Doc. 2020-25406 Filed 11-17-20; 8:45 am]

BILLING CODE 6450-01-P